DEPARTMENT OF THE INTERIOR

Fish and Wildlife Service

[FWS-R4-R-2010-N051; 40136-1265-0000-S3]

Pine Island, Matlacha Pass, Island Bay, and Caloosahatchee National Wildlife Refuges, Lee and Charlotte Counties, FL

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Pine Island, Matlacha Pass, Island Bay, and Caloosahatchee National Wildlife Refuges (NWRs) for public review and comment. In the Draft CCP/EA, we describe the alternative we propose to use to manage these four refuges for the 15 years following approval of the final CCP.

DATES: To ensure consideration, we must receive your written comments by June 21, 2010.

ADDRESSES: You may obtain a copy of the Draft CCP/EA by contacting Ms. Cheri M. Ehrhardt, via U.S. mail at J.N. “Ding” Darling National Wildlife Refuge Complex, 1 Wildlife Drive, Sanibel, FL 33957, or via e-mail at DingDarlingCCP@fws.gov. Alternatively, you may download the document from our Internet Site at http://southeast.fws.gov/planning under “Draft Documents.” Submit comments on the Draft CCP/EA to the above postal address or e-mail address.

FOR FURTHER INFORMATION CONTACT: Ms. Cheri M. Ehrhardt, Natural Resource Planner, telephone: 321/861-2368; or Mr. Paul Tritaik, Refuge Manager, telephone: 239/472-1100.

SUPPLEMENTARY INFORMATION:

Introduction

With this notice, we continue the CCP process for Pine Island, Matlacha Pass, Island Bay, and Caloosahatchee NWRs. We started the process through a notice in the Federal Register on June 27, 2007 (72 FR 35254), and extended the comment period in a notice in the Federal Register on April 2, 2008 (73 FR 17991). For more about the refuges, their purposes, and our CCP process, please see those notices.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Totaling approximately 1,201 acres, the four refuges were established “as a preserve and breeding ground for native birds” and are managed as part of the J.N. “Ding” Darling NWR Complex (Complex). Predominantly mangrove swamp, these four refuges provide for native wildlife and habitat diversity through a mix of habitats, including mangrove islands and shorelines, saltwater marshes and ponds, tidal flats, and upland hardwood forests. They also provide protection for 12 Federal-listed and 25 State-listed species, as well as for wading birds, waterbirds, raptors and birds of prey, neotropical migratory birds, shorebirds, and seabirds. Although all four refuges are closed to public access to protect their sensitive resources, they exist in an estuarine system and are all viewable from the water.

The priority management issues facing these four refuges are addressed in the Draft CCP/EA, including: (1) Increasing and changing human population, development of the landscape, recreational uses and demands, and associated impacts; (2) issues and impacts associated with water quality, water quantity, and timing; (3) invasion and spread of exotic, invasive, and nuisance species; (4) climate change impacts; (5) need for long-term protection of important resources; (6) declines in and threats to rare, threatened, and endangered species; (7) insufficient baseline wildlife and habitat data and lack of comprehensive habitat management plan; and (8) insufficient resources to address refuge needs.

CCP Alternatives, Including Our Proposed Alternative

We developed four alternatives for managing the Complex and chose Alternative C as the proposed alternative. A full description of each alternative is in the Draft CCP/EA. We summarize each alternative below.

Alternative A (Current Management, No Action)

Alternative A would continue management activities and programs at levels similar to past management, providing a baseline for the comparison of the action alternatives.

Under Alternative A, wildlife and habitat management activities for the Complex would continue to be limited. The rare, threatened, and endangered species of management concern would continue to be wood storks, roseate spoonbills, roseate terns, black skimmers, American oystercatchers, snowy and piping plovers, and bald eagles. We would continue to coordinate with the partners to survey rookeries, monitor black skimmer nesting, survey for snowy plovers, and restore mangroves on four islands, as well as address exotic, invasive, and nuisance species through the Southwest Florida Cooperative Invasive Species Management Area (SWFL CISMA). Since wintering critical habitat for the piping plover has been designated on the Terrapin Creek Tract at Matlacha Pass NWR, we would continue to protect this area and limit human disturbances. We would continue to work with the partners to address water quality, quantity, and timing concerns associated with the refuges' watersheds, including Lake Okeechobee regulatory releases, the Caloosahatchee Basin and Cape Coral drainages, and local runoff issues. Several climate change models have included these refuges, helping us to begin to develop an understanding of the impacts of climate change on these resources.

Under Alternative A, resource protection management activities for Pine Island, Matlacha Pass, Island Bay, and Caloosahatchee NWRs would continue to be very minimal. Law enforcement staff would continue to patrol known cultural resource sites. The full extent of cultural resources on the refuges would continue to remain unknown. Boundaries would be reposted as possible. Violations of the closed areas would continue to occur. Boundary discrepancies would likely continue to exist (e.g., at Caloosahatchee NWR and Givney Key at Matlacha Pass NWR). Caloosahatchee NWR would develop a Minor Expansion Proposal (MEP) to include Manatee Island under refuge management, since Florida Power and Light donated the island to the “Ding” Darling Wildlife Society for future inclusion in the refuge. The Island Bay NWR Wilderness Area would continue to remain closed with no active management.

Under Alternative A, the four refuges would remain closed to visitors, resulting in limited visitor service activities and programs. However, since the area around the refuges receives high use and since the refuges are part of the Great Calusa Blueway, the refuges would continue to be identified on maps distributed by partners, providing limited visitor welcome and orientation. Various activities, including fishing, canoeing, kayaking, motor boating, parasailing, windsurfing, ski tubing, using personal watercraft, and participating in wildlife observation and photography, would continue to occur in the State waters adjacent to the refuges. Environmental education and interpretation activities would continue to be conducted at the “Ding” Darling Education Center on Sanibel Island and at off-site locations.

J.N. “Ding” Darling NWR staff would continue to conduct minimal management and periodic patrols of Pine Island, Matlacha Pass, Island Bay, and Caloosahatchee NWRs.

Alternative B (Native Wildlife and Habitat Diversity)

Alternative B would increase refuge management actions, with a focus on native wildlife and habitat diversity.

The rare, threatened, and endangered species of management concern to the refuges would be expanded to include the wood stork, roseate spoonbill, roseate tern, black skimmer, American oystercatcher, snowy plover, Wilson's plover, red knot, piping plover, bald eagle, mangrove cuckoo, black-whiskered vireo, gray kingbird, Florida prairie warbler, West Indian manatee, ornate diamondback terrapin, loggerhead sea turtle, green sea turtle, Kemp's ridley sea turtle, gopher tortoise, American alligator, American crocodile, eastern indigo snake, Sanibel Island rice rat, Gulf sturgeon, and smalltooth sawfish. Increased surveying and monitoring activities, minimized disturbances to wildlife and habitats, increased habitat management, increased intergovernmental coordination, and increased information would enhance decision-making, benefitting a variety of resources. The establishment of buffer zones around known rookery locations and key foraging and resting areas would benefit a variety of birds. In relation to the proposed widening of I-75, we would work with the partners to identify and address wildlife and habitat impacts associated with the proposed project, with an emphasis on minimizing impacts to wildlife and habitat diversity. Focusing on native diversity, we would expand exotic, invasive, and nuisance species plant control activities with updated priority plant lists and identification and location of new plant infestations, with initial efforts focused on elimination. Further, we would work with the partners to control and eradicate exotic, invasive, and nuisance animal species and would coordinate with the partners to increase the public's awareness of the negative impacts of these species. The refuges would adapt management as necessary to eradicate new invasive species and increase active participation in the SWFL CISMA. We would increase management activities related to water quality, quantity, and timing concerns. We would evaluate the need to expand the existing water quality monitoring stations to cover all four refuges. We would work with the partners to foster and conduct research to better understand the impacts of climate change on wildlife and habitat diversity and to refine and run appropriate climate change models to better predict sea level change impacts on resources of the refuges. Further, we would work with the partners to establish benchmarks to record sea level rise and beach profiles and shoreline changes, which could potentially impact a variety of species.

A complete archaeological and historical survey of the satellite refuges would be conducted, allowing for the protection of any newly identified sites. To resolve boundary and ownership discrepancies, we would conduct legal boundary surveys and historical research. To serve the purposes of the refuges and wildlife and habitat management goals and objectives, we would work with the partners to develop agreements to establish closed area buffers to protect key resources. We would prioritize acquisition efforts for those sites with high native wildlife and habitat values and would pursue completion of the approved acquisition boundaries from willing sellers. We would pursue Western Hemisphere Shorebird Reserve Network designation. To improve management of the Island Bay NWR Wilderness Area, Alternative B would initiate coordination with the Charlotte County Mosquito Control District to eliminate the use of larvicides in the Wilderness Area during mosquito control activities. To increase understanding and awareness regarding the Wilderness Area, we would incorporate Island Bay NWR Wilderness Area into programs and materials delivered at the “Ding” Darling Education Center and at the proposed annual event for the satellite refuges.

Although the refuges would likely remain closed throughout the life of the CCP, we would expand the Visitor Services program of the refuges with a focus on native diversity through coordination with the partners, expanded environmental education and interpretation opportunities, and increased outreach efforts and activities. Since numerous area visitors also visit the nearby J.N. “Ding” Darling NWR, we would update the exhibits and activities at the “Ding” Darling Education Center to highlight the satellite refuges and provide wilderness stewardship principles. Since numerous uses occur adjacent to these refuges, we would work with the partners to minimize the impacts to resources of the refuges from these adjacent activities (e.g., impacts from disturbance and from abandoned monofilament fishing line, cast nets, and crab traps on birds, manatees, sea turtles, and terrapins) and to improve the ethical outdoor behavior of area users. We would incorporate messages that focus on native wildlife and habitat diversity, the role and importance of these refuges in the landscape, and the importance of minimizing the impacts of human activities into on-site (at the “Ding” Darling Education Center) and off-site curriculum-based environmental education programs, as well as into interpretive and outreach materials developed for all refuges in the Complex. We would train volunteers, teachers, and staff to conduct educational and interpretive programs; increase outreach efforts and activities to the local communities; and work with partners to develop an annual satellite refuges event in one of the local communities.

Alternative B would create five staff positions specific to these refuges: Biological science technician, law enforcement officer, wildlife refuge specialist (assistant refuge manager), hydrologist, and park ranger (Environmental Education). The lead biologist at the J.N. “Ding” Darling NWR would continue to design and oversee the biological program and activities at the satellite refuges. We would work with the partners to evaluate and install interpretive signage at partner sites. A key refuge administration activity would be to work to improve the visibility and image of the Service in communities around these refuges to build support for refuge management, including through the development of an annual event in one of the local communities to highlight the satellite refuges.

Alternative C (Migratory Birds, Proposed Action)

Alternative C would propose actions and activities that focus management on the needs of migratory birds. This alternative addresses the management needs of all birds covered under the Migratory Bird Treaty Act, including resident species of native birds that are found using the refuge year-round.

The needs of migratory birds would be prioritized in all management and restoration plans. The rare, threatened, and endangered species of management concern to the refuges would be expanded to include the wood stork, roseate spoonbill, roseate tern, black skimmer, American oystercatcher, snowy plover, Wilson's plover, red knot, piping plover, bald eagle, mangrove cuckoo, black-whiskered vireo, gray kingbird, Florida prairie warbler, West Indian manatee, ornate diamondback terrapin, loggerhead sea turtle, green sea turtle, Kemp's ridley sea turtle, gopher tortoise, American alligator, American crocodile, eastern indigo snake, Gulf sturgeon, and smalltooth sawfish. Increased and improved surveying and monitoring activities, minimized disturbances to wildlife and habitats, increased habitat creation and management, increased intergovernmental coordination, and increased information would enhance decisionmaking, benefitting a variety of resources. We would work with the partners to evaluate the Turtle Bay area of Island Bay NWR for designation as a Manatee Sanctuary, since it is an important manatee natality area within Charlotte Harbor. The establishment of buffer zones around known rookery locations and key foraging and resting areas would benefit a variety of birds. In relation to the proposed widening of I-75, we would work with the partners to identify and address wildlife and habitat impacts associated with the proposed project, with an emphasis on minimizing impacts to migratory birds. Focusing on the needs of migratory birds, we would expand exotic, invasive, and nuisance plant species control activities with a focus on migratory birds with updated lists of priorities and identification and location of new plant infestations with initial efforts focused on elimination. Further, we would work with the partners to control and eradicate exotic, invasive, and nuisance animals and would coordinate with the partners to increase the public's awareness of the negative impacts of these species. In all these efforts, we would adapt management as necessary to eradicate new invasive species and increase active participation in the SWFL CISMA. We would increase management activities related to water quality, quantity, and timing concerns with a focus on migratory birds. We would evaluate the need to expand the existing water quality monitoring stations to cover all four refuges. We would work with the partners to foster and conduct research to better understand the impacts of climate change on migratory birds and to refine and run appropriate climate change models to better predict sea level change impacts on resources of the refuges. Further, we would work with the partners to establish benchmarks to record sea level rise and beach profiles and shoreline changes, which could potentially impact a variety of species.

A complete archaeological and historical survey of the satellite refuges would be conducted, allowing for the protection of any newly identified sites. To resolve boundary and ownership discrepancies, we would conduct legal boundary surveys and historical research. To serve the purposes of the refuges and wildlife and habitat management goals and objectives, we would work with the partners to develop agreements to establish closed area buffers to protect key resources. We would prioritize acquisition efforts for those sites with high values for migratory birds and would pursue completion of the approved acquisition boundaries from willing sellers. We would pursue the designation of lands and waters within the current management boundaries of Pine Island and Matlacha Pass NWRs for inclusion in the Western Hemisphere Shorebird Reserve Network and of all four refuges as RAMSAR Wetlands of International Importance, as part of the application for J.N. “Ding” Darling NWR. To improve management of the Island Bay NWR Wilderness Area, we would initiate coordination with the Charlotte County Mosquito Control District to eliminate the use of larvicides in the Wilderness Area during mosquito control activities. To increase understanding and awareness regarding the Wilderness Area, we would incorporate Island Bay NWR Wilderness Area into programs and materials delivered at the “Ding” Darling Education Center and at the proposed annual event for the satellite refuges.

Although the refuges would likely remain closed throughout the life of the CCP, we would expand the Visitor Services program of the refuges with a focus on migratory birds through coordination with the partners, expanded environmental education and interpretation opportunities, and increased outreach efforts and activities. Since numerous area visitors also visit the nearby J.N. “Ding” Darling NWR, we would update the exhibits and activities at the “Ding” Darling Education Center to highlight the satellite refuges and provide wilderness stewardship principles. Since numerous uses occur adjacent to these refuges, we would work with the partners to minimize the impacts to resources of the refuges from these adjacent activities (e.g., impacts from disturbance and from abandoned monofilament fishing line, cast nets, and crab traps on birds, manatees, sea turtles, and terrapins) and to improve the ethical outdoor behavior of area users. We would incorporate messages that focus on migratory birds, the role and importance of these refuges in the landscape, and the importance of minimizing the impacts of human activities into on-site (at the “Ding” Darling Education Center) and off-site curriculum-based environmental education programs, as well as into interpretive and outreach materials developed for all refuges in the Complex. The Complex would train volunteers, teachers, and staff to conduct educational and interpretive programs; increase outreach efforts and activities to the local communities; and work with partners to develop an annual satellite refuge event in one of the local communities.

Alternative C would create five staff positions specific to these refuges: Biological science technician, law enforcement officer, wildlife refuge specialist (assistant refuge manager), hydrologist, and park ranger (environmental education). The lead biologist at the J.N. “Ding” Darling NWR would continue to design and oversee the biological program and activities at the satellite refuges. We would work with the partners to evaluate and install interpretive signage at partner sites. And, we would expand existing partnerships and develop new partnerships. A key refuge administration activity would be to work to improve the visibility and image of the Service in communities around these refuges to build support for refuge management, including through the development of an annual event in one of the local communities to highlight the satellite refuges.

Alternative D (Rare, Threatened, and Endangered Species)

Alternative D would focus on increasing refuge management actions that promote the recovery of rare, threatened, and endangered species occurring within the four refuges.

The rare, threatened, and endangered species of management concern to the refuges would be expanded to include the wood stork, roseate spoonbill, roseate tern, black skimmer, American oystercatcher, snowy plover, Wilson's plover, red knot, piping plover, bald eagle, mangrove cuckoo, black-whiskered vireo, gray kingbird, Florida prairie warbler, West Indian manatee, Sanibel Island rice rat, ornate diamondback terrapin, loggerhead sea turtle, green sea turtle, Kemp's ridley sea turtle, gopher tortoise, American alligator, American crocodile, eastern indigo snake, Gulf sturgeon, and smalltooth sawfish. Increased and improved survey and monitoring activities, minimized disturbances to wildlife and habitats, increased habitat creation and management, increased intergovernmental coordination, and increased information would enhance decision-making, benefitting a variety of resources and helping serve recovery goals. We would work with the partners to evaluate the Turtle Bay area of Island Bay NWR for designation as a Manatee Sanctuary, since it is an important manatee natality area within Charlotte Harbor. The establishment of buffer zones around known rookery locations and key foraging and resting areas would benefit a variety of rare, threatened, and endangered species. In relation to the proposed widening of I-75, we would work with the partners to identify and address wildlife and habitat impacts associated with the proposed project with an emphasis on minimizing impacts to rare, threatened, and endangered species. The refuges would expand exotic, invasive, and nuisance plant species control activities with a focus on rare, threatened, and endangered species, with updated lists of priorities and identification and location of new plant infestations with initial efforts focused on elimination. Further, we would work with the partners to control and eradicate exotic, invasive, and nuisance animals and would coordinate with the partners to increase the public's awareness of the negative impacts of these species. In all these efforts, we would adapt management as necessary to eradicate new invasive species and increase active participation in the SWFL CISMA. We would increase management activities related to water quality, quantity, and timing concerns with a focus on rare, threatened, and endangered species. We would evaluate the need to expand the existing water quality monitoring stations to cover all four refuges. We would work with the partners to foster and conduct research to better understand the impacts of climate change on rare, threatened, and endangered species and to refine and run appropriate climate change models to better predict sea level change impacts on resources of the refuges. Further, we would work with the partners to establish benchmarks to record sea level rise and beach profiles and shoreline changes, which could potentially impact a variety of species.

A complete archaeological and historical survey of the satellite refuges would be conducted, allowing for the protection of any newly identified sites. To resolve boundary and ownership discrepancies, we would conduct legal boundary surveys and historical research. To serve the purposes of the refuges and wildlife and habitat management goals and objectives, we would work with the partners to develop agreements to establish closed area buffers to protect key resources. We would prioritize acquisition efforts for those sites with high values for rare, threatened, and endangered species and would pursue completion of the approved acquisition boundaries from willing sellers. We would pursue Western Hemisphere Shorebird Reserve Network designation. To improve management of the Island Bay NWR Wilderness Area, we would initiate coordination with the Charlotte County Mosquito Control District to eliminate the use of larvicides in the Wilderness Area during mosquito control activities. To increase understanding and awareness regarding the Wilderness Area, we would incorporate Island Bay NWR Wilderness Area into programs and materials delivered at the “Ding” Darling Education Center and at the proposed annual event for the satellite refuges.

Although the refuges would likely remain closed throughout the life of the CCP, we would expand the Visitor Services program of the refuges through coordination with the partners, expanded environmental education and interpretation opportunities, and increased outreach efforts and activities. Visitor services programs and activities would be focused on rare, threatened, and endangered species. Since numerous area visitors also visit the nearby J.N. “Ding” Darling NWR, we would update the exhibits and activities at the “Ding” Darling Education Center to highlight the satellite refuges and provide wilderness stewardship principles. Since numerous uses occur adjacent to these refuges, we would work with the partners to minimize the impacts to resources of the refuges from these adjacent activities (e.g., impacts from disturbance and from abandoned monofilament fishing line, cast nets, and crab traps on rare, threatened, and endangered species) and to improve the ethical outdoor behavior of area users. We would incorporate messages that focus on rare, threatened, and endangered species, the role and importance of these refuges in the landscape, and the importance of minimizing the impacts of human activities into on-site (at the “Ding” Darling Education Center) and off-site curriculum-based environmental education programs, as well as into interpretive and outreach materials developed for all refuges in the Complex. We would train volunteers, teachers, and staff to conduct educational and interpretive programs; increase outreach efforts and activities to the local communities; and work with partners to develop an annual satellite refuge event in one of the local communities.

Alternative D would create five staff positions specific to these refuges: Biological science technician, law enforcement officer, wildlife refuge specialist (assistant refuge manager), hydrologist, and park ranger (Environmental Education). The lead biologist at the J.N. “Ding” Darling NWR would continue to design and oversee the biological program and activities at the satellite refuges. We would work with the partners to evaluate and install interpretive signage at partner sites. We would expand existing partnerships and develop new partnerships. A key refuge administration activity would be to work to improve the visibility and image of the Service in communities around these refuges to build support for refuge management, including through the development of an annual event in one of the local communities to highlight the satellite refuges.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Pub. L. 105-57.

Dated: April 14, 2010.
Mark J. Musaus,
Acting Regional Director.

[FR Doc. 2010-12213 Filed 5-20-10; 8:45 am]

BILLING CODE 4310-55-P